FEDERAL COMMUNICATIONS COMMISSION

47 CFR Part 97

[WT Docket No. 12-283; FCC 14-74]

Amateur Service Rules

AGENCY: Federal Communications Commission.

ACTION: Correcting amendments.

SUMMARY: This document contains a correction to the final regulations of the Commission's rules, which were published in the Federal Register on Friday, June 20, 2014, 79 FR 35290. The final regulations address the rules for the Amateur Radio Service.

DATES: Effective September 3, 2014.

FOR FURTHER INFORMATION CONTACT: William T. Cross, Mobility Division, Wireless Telecommunications Bureau, at (202) 418-0680, or TTY (202) 418-7233.

SUPPLEMENTARY INFORMATION: The Federal Communications Commission published a document amending 47 CFR Part 97 in the Federal Register of June 20, 2014, (79 FR 35290). The amended rules are necessary for modifying the qualifying examination system to grant partial examination credit for certain expired amateur operator licenses, permits examinations to be administered remotely, and allows amateur stations to transmit certain additional emission types.

Need for Correction

As published, the final regulations inadvertently deleted two sub-paragraphs of § 97.507(a) and needs to be corrected accordingly.

List of Subjects in 47 CFR Part 97

Radio.

Federal Communications Commission.
Marlene H. Dortch,
Secretary.

Accordingly, 47 CFR part 97 is corrected by making the following correcting amendments:

PART 97—AMATEUR RADIO SERVICE

1. The authority citation for part 97 continues to read as follows:

Authority: 48 Stat. 1066, 1082, as amended; 47 U.S.C. 154, 303. Interpret or apply 48 Stat. 1064-1068, 1081-1105, as amended; 47 U.S.C. 151-155, 301-609, unless otherwise noted.

2. Amend § 97.507 by adding paragraphs (a)(1) and (2) to read as follows:

§ 97.507 Preparing an examination.

(a) * * *

(1) Element 3: Advanced Class operator.

(2) Element 2: Advanced or General class operators.

* * * * *

[FR Doc. 2014-20872 Filed 9-2-14; 8:45 am]

BILLING CODE 6712-01-P